DEPARTMENT OF TRANSPORTATION

Surface Transportation Board

[STB Finance Docket No. 27590 (Sub-No. 3)]

TTX Company, et al.—Application for Approval of Pooling of Car Service With Respect to Flatcars

AGENCY: Surface Transportation Board.

ACTION: Notice of request for comments.

SUMMARY: In its decision in this proceeding served on August 31, 2004 (August 2004 decision), the Surface Transportation Board provided for the monitoring of TTX Company (TTX) and the preparation of a monitoring report at the end of year 5 of the 10-year term authorized by the Board for TTX's pooling agreement. To facilitate preparation of the report and preparation of comments by interested parties, the Board is directing TTX and its members to provide certain operational information and then is seeking comments from interested parties on whether any of TTX's activities require any action or particular oversight by the Board at this time.

DATES: The information being sought from TTX and its members is due by November 16, 2009. Comments from interested parties are due by December 31, 2009.

ADDRESSES: Comments may be submitted either via the Board's e-filing format or in traditional paper format. Any person using e-filing should attach a document and otherwise comply with the instructions at the E-FILING link on the Board's Web site at http://www.stb.dot.gov. Any person submitting a filing in the traditional paper format should send an original and 10 copies referring to STB Finance Docket No. 27590 (Sub-No. 3) to: Surface Transportation Board, 395 E Street, SW., Washington, DC 20423-0001.

FOR FURTHER INFORMATION CONTACT: Larry C. Herzig, (202) 245-0282. Assistance for the hearing impaired is available through the Federal Information Relay Service (FIRS) at 1-800-877-8339.

SUPPLEMENTARY INFORMATION: TTX owns and manages for the benefit of its participating Class I and Class II railroads an extensive fleet of specialized flatcars that are used in rail transportation of containers, truck trailers, automobiles, lumber, extra-dimensional loads, and other commodities. TTX was authorized to own and to manage these cars pursuant to a pooling agreement established under 49 U.S.C. 11322. Under 49 U.S.C. 11321, such authorization exempts TTX and the railroad participants in their pooling agreement from “the antitrust laws and from all other law” as necessary to allow the agreement to be carried out. In its August 2004 decision approving a 10-year extension of TTX's pooling authority,¹ the Board authorized TTX's to extend its pooling agreement for an additional 10-year term and clarified the authorized scope of TTX's agreement. For further details, see the Board's August 2004 decision.

¹ See TTX Company, et al.—Application for Approval of Pooling of Car Service with Respect to Flat Cars, STB Finance Docket No. 27590 (Sub-No. 3) (STB served Aug. 31, 2004).

The Board's August 2004 decision also required what was then the agency's Office of Compliance and Enforcement, now the Office of Public Assistance, Governmental Affairs, and Compliance (OPAGAC), to monitor TTX's operations and to prepare a monitoring report at the end of year 5 of the 10-year term that began on October 1, 2004. To carry out the monitoring process required in the August 2004 decision, we are first asking TTX and its members provide certain operational information described in the Board's full decision in this matter being served today. TTX's submission will be posted on the Board's web site.

Thereafter, shippers or other interested parties may comment on TTX's submission and whether any of TTX's activities require any action or particular oversight by this agency at this time. Any commenter wishing to express a concern about any of TTX's activities should fully describe the activity, the concern, and the type of Board action that the commenter believes is appropriate. The information filed by TTX and its members and any public comments will be reviewed as part of the monitoring process, and the agency will determine whether any further action is appropriate.

This action will not significantly affect either the quality of the human environment or the conservation of energy resources.

It is ordered:

1. The Board is commencing the monitoring report process discussed in its August 2004 Decision.

2. TTX and its members must provide the requested information by November 16, 2009.

3. Shippers and other interested parties may file comments with the Board on whether any of TTX's activities pursuant to the Board-approved pooling agreement require any action or particular oversight by the Board at this time. Comments are due by December 31, 2009.

4. This notice will be published in the Federal Register.

5. This notice and the accompanying decision will be served on all parties appearing on the service list in STB Finance Docket No. 27590 (Sub-No. 3).

6. This decision is effective on September 25, 2009.

By the Board, Chairman Elliott, Vice Chairman Nottingham, and Commissioner Mulvey.
Jeffrey Herzig,
Clearance Clerk.

[FR Doc. E9-23511 Filed 9-29-09; 8:45 am]

BILLING CODE 4915-01-P